DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1-Motor vehicle, 2-Rail freight, 3-Cargo vessel, 4-Cargo aircraft only, 5-Passenger-carrying aircraft.

DATES: Comments must be received on or before July 21, 2017.

ADDRESS COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC, or at http://regulations.gov.

This notice of receipt of applications for special permit is published in accordance with Part 107 of the Federal hazardous materials transportation law (49 U.S.C. 5117(b); 49 CFR 1.53(b)).

Issued in Washington, DC, on May 3, 2017.
Donald Burger,
Chief, Office of the Special Permits and Approvals.

Special Permits Data
Application No. | Docket No. | Applicant | Regulation(s) affected | Nature of the special permits thereof
20414-N |  | Lockheed Martin Corporation | 172.101(j) | To authorize the transportation of low production batteries aboard cargo-only aircraft. (mode 4.)
20416-N |  | Aluminum Tank & Tank Accessories, Inc | 177.834(h), 178.700(c)(1) | To authorize the manufacture, marking, sale and use of non-DOT specification metal refueling tanks containing certain Class 3 liquids. (mode 1.)
20417-N |  | Redemption, Inc | 172.101(j), 172.301(c), 173.62(c) | To authorize the transportation in commerce of certain Class 1 explosive materials which are forbidden for transportation by air, to be transported by cargo aircraft within the State of Alaska when other means of transportation are impracticable or not available. (mode 4.)
20421-N |  | The Procter & Gamble Company | 172.400, 172.500, 172.200, 172.300, 174.1, 177.800, 173.304a(a) | To authorize the transportation in commerce of plastic receptacles charged with liquefied gases, or a mixture of a liquefied and compressed gas, and which are exempted from marking, labeling, and shipping papers when shipped by motor vehicle or rail freight. (modes 1, 2.)
20422-N |  | Sportsman's Air Service, Inc | 172.101(j), 175.310(c)(1)(i)(iii), 173.242 | To authorize the transportation in commerce of certain Class 3 liquid fuels contained in non-DOT specification packaging of up to 250 gallon capacity by cargo aircraft within and to remote areas in Alaska where there is no other practical alternative to air shipments. (mode 4.)
20424-N |  | CP Industries Holdings, Inc | 173.302(a) | To authorize the manufacture, mark, sale, and use of non-DOT specification fully wrapped fiber reinforced composite cylinders. (modes 1, 2, 3.)
20425-N |  | Composite Advanced Technologies CNG | 173.302(a)(1), 173.304(a)(1) | To authorize the transportation in commerce of non-DOT specification over wrapped carbon fiber and epoxy composite reinforced cylinder. (mode 1.)
20426-N |  | Enersys Advanced Systems Inc | 173.185(a) | To authorize the transportation in commerce of lithium metal cells that are not of a type proven to meet the requirements of the UN Manual of Tests and Criteria. (modes 1, 4.)
20429-N |  | Reclamation Technologies, Inc | 173.301(a)(1), 173.304(a), 173.309 | To authorize the transportation in commerce of non-DOT specification cylinders via contract or dedicated carrier. (mode 1.)
20430-N |  | Minnesota Commercial Railway Company | 174.85 | To authorize the transportation by rail of hazardous materials without the use of buffer cars. (mode 2.)
20432-N |  | Procyon-Alpha Squared, Inc | 173.185(f) | To authorize the manufacture, mark, sale, and use of specially designed packagings for the transportation of damaged, defective or recalled lithium cells, batteries and equipment containing these cells and batteries. (modes 1, 2, 3.)
20433-N |  | Brammo, Inc | 172.101(j), 173.185(a) | To authorize the transportation in commerce of prototype and low production lithium ion batteries in excess of 35 kg by cargo-only aircraft. (mode 4.)
20434-N |  | Cardinal Professional Products | 173.334(a), 173.334(b), 173.334(d), 173.334(e) | To authorize the transportation in commerce of up to 11.35 kg (25 lbs) of an organic phosphate compound (2,2 dichlorovinyl dimethylphosphate) in a DOT Specification 4BA240, 4BW240, 3A and 3AA cylinder equipped with an eduction (dip) tube without using an overpack. (mode 1.)
20435-N |  | Atieva USA Inc | 172.101(j), 173.185(a) | To authorize the transportation in commerce of low production lithium ion batteries in excess of 35 kg by cargo-only aircraft. (mode 4.)
20438-N |  | Toyota Motorsport GMBH | 172.101(j), 173.185(a) | To authorize the transportation in commerce of prototype lithium ion batteries in excess of 35 kg by cargo-only aircraft. (mode 4.)
20440-N |  | Nellis Engineering, Inc | 173.185(a) | To authorize the transportation in commerce of lithium ion batteries and lithium ion batteries contained in equipment by cargo-only aircraft. (mode 4.)
20441-N |  | Spaceflight, Inc | 173.185(a) | To authorize the transportation in commerce of low production lithium ion batteries contained in equipment via cargo-only aircraft. (mode 4.)
20450-N |  | Porsche Cars North America, Inc | 172.101(j) | To authorize the transportation in commerce of lithium ion batteries which exceed the allowable 35 kg weight limit by cargo aircraft. (mode 4.)
20452-N |  | Xalt Energy MI, LLC | 172.101(j) | To authorize the transportation in commerce of lithium ion batteries exceeding 35 kg net weight by cargo-only aircraft. (mode 4.)
20453-N |  | LG Chem | 172.101(j) | To authorize the transportation in commerce of lithium ion batteries in excess of 35 kg by cargo-only aircraft. (mode 4.)
20455-N |  | Luxfer Inc | 180.205, 173.302(a) | To authorize the manufacture, mark, sale and use of a non-DOT specification fully wrapped carbon fiber composite cylinder with a load sharing aluminum liner for the transport of certain hazardous materials. (modes 1, 2, 3, 4, 5.)
20456-N |  | Callery, LLC | 173.13(c)(1)(ii) | To authorize the transportation in commerce of Division 4.3 materials in packages not required to labeled. (mode 1, 4.)
20459-N |  | C.H.& I. Technologies, Inc | 178.33-1(a), 178.33a-1 | To authorize the manufacture, mark, sale, and use of non-DOT specification receptacles meeting the requirements for 2P and 2Q receptacles except as provided herein. (modes 1, 2, 3, 4, 5.)
20463-N |  | Aerojet Rocketdyne, Inc | 172.320(a), 173.56(b), 173.51(a) | To authorize the transportation in commerce of subassembly components of previously approved rocket motors without individual EX classification approvals. (mode 1.)

[FR Doc. 2017-12938 Filed 6-20-17; 8:45 am]

BILLING CODE 1301-00-M